NATIONAL SCIENCE FOUNDATION

Proposal Review Panel for Materials Research; Notice of Meeting

In accordance with the Federal Advisory Committee Act (Pub. L. 92- 463, as amended), the National Science Foundation (NSF) announces the following meeting:

Name and Committee Code: Proposal Review Panel for Materials Research (DMR) (#1203)—Science and Technology Center on Real-Time Functional Imaging (STROBE) (Site Visit)

Date and Time: June 13, 2019, 8:00 a.m.-8:00 p.m.; June 14, 2019, 8:00 a.m.-4:00 p.m.

Place: STC at University of Colorado (Boulder), Boulder, Colorado 80303.

Type of Meeting: Part Open.

Contact Person: Dr. Charles Ying, Program Director, Division of Materials Research, National Science Foundation, 2415 Eisenhower Avenue, Alexandria, VA 22314; Telephone (703) 292-8428.

Purpose of Meeting: Site Visit to provide advice and recommendations concerning progress of the Science and Technology Center (STC).

Agenda

Thursday, June 13, 2019

8:00 a.m.-11:00 a.m. Open—Review of STROBE STC

11:00 a.m.-8:00 p.m. Closed—Executive Session

Friday, June 14, 2019

8:00 a.m.—4:00 p.m. Closed—Executive Session

Reason for Closing: Topics to be discussed and evaluated during closed portions of the site review will include information of a proprietary or confidential nature, including technical information; and information on personnel. These matters are exempt under 5 U.S.C. 552b(c), (4) and (6) of the Government in the Sunshine Act.

Dated: May 10, 2019.
Crystal Robinson,
Committee Management Officer.

[FR Doc. 2019-10074 Filed 5-14-19; 8:45 am]

BILLING CODE 7555-01-P